DEPARTMENT OF COMMERCE

International Trade Administration

[C-570-913]

Certain New Pneumatic Off-the-Road Tires From the People's Republic of China: Alignment of Final Countervailing Duty Determination With Final Antidumping Duty Determination

AGENCY: Import Administration, International Trade Administration, Department of Commerce.

SUMMARY: The Department of Commerce (the Department) is aligning the final determination in the countervailing duty investigation of certain new pneumatic off-the-road tires (OTR Tires) from the People's Republic of China (PRC) with the final determination in the companion antidumping investigation.

EFFECTIVE DATE: January 17, 2008.

FOR FURTHER INFORMATION CONTACT: Mark Hoadley, Jack Zhao, or Nicholas Czajkowski, AD/CVD Operations, Office 6, Import Administration, International Trade Administration, U.S. Department of Commerce, 14th Street and Constitution Avenue, NW., Washington, DC 20230; telephone: (202) 482-3148, (202) 482-1396, and (202) 482-1395, respectively.

Background: On August 7, 2007, the Department initiated the countervailing duty and antidumping duty investigations on OTR Tires from PRC. See Certain New Pneumatic Off-the-Road Tires From the People's Republic of China: Initiation of Countervailing Duty Investigation, 72 FR 44122 (August 7, 2007), and Initiation of Antidumping Duty Investigation: Certain New Pneumatic Off-the-Road Tires From the People's Republic of China, 72 FR 43591 (August 7, 2007). The countervailing duty and antidumping duty investigations have the same scope with regard to the subject merchandise covered. On December 17, 2007, the Department published the preliminary affirmative countervailing duty determination pertaining to OTR Tires from the PRC. See Certain New Pneumatic Off-the-Road Tires from the People's Republic of China: Preliminary Affirmative Countervailing Duty Determination, 72 FR 71360 (December 17, 2007). On December 11, 2007, the petitioners, Titan Tire Corporation and United Steel, Paper and Forestry, Rubber, Manufacturing, Energy Allied Industrial and Service Workers International Union, AFL-CIO-CLC, submitted a letter, pursuant to 19 CFR 351.210(b)(4), requesting alignment of the final countervailing duty determination with the final determination in the companion antidumping duty investigation of OTR Tires from the PRC.

Therefore, in accordance with section 705(a)(1) of the Tariff Act of 1930, as amended (the Act), and 19 CFR 351.210(b)(4), we are aligning the final countervailing duty determination on OTR Tires from the PRC with the final determinations in the companion antidumping duty investigation of OTR Tires from the PRC. The final countervailing duty determination will be issued on the same date as the final antidumping duty determination currently scheduled for April 21, 2008, the first business day following the April 20, 2008 deadline for the final antidumping duty determination.

This notice is issued and published pursuant to section 705(a)(1) of the Act.

Dated: January 10, 2008.
David M. Spooner,
Assistant Secretary for Import Administration.

[FR Doc. E8-790 Filed 1-16-08; 8:45 am]

BILLING CODE 3510-DS-P